DEPARTMENT OF THE INTERIOR

National Park Service

[NPS-WASO-NAGPRA-NPS0037977; PPWOCRADN0-PCU00RP14.R50000]

Notice of Inventory Completion: University of Tennessee, Department of Anthropology, Knoxville, TN

AGENCY: National Park Service, Interior.

ACTION: Notice.

SUMMARY: In accordance with the Native American Graves Protection and Repatriation Act (NAGPRA), the University of Tennessee, Department of Anthropology (UTK) has completed an inventory of human remains and has determined that there is a cultural affiliation between the human remains and Indian Tribes or Native Hawaiian organizations in this notice.

DATES: Repatriation of the human remains in this notice may occur on or after June 24, 2024.

ADDRESSES: Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of UTK, and additional information on the determinations in this notice, including the results of consultation, can be found in the inventory or related records. The National Park Service is not responsible for the determinations in this notice.

Abstract of Information Available

Based on the information available, human remains representing, at least, six individuals have been reasonably identified. These individuals were removed from an unknown site in Woodville (Wilkinson County), Mississippi. The burials were exposed in late September or early October 1978 during road construction and reported to the Sheriff's Office. Probably after determining the burials were Native American and not a case for law enforcement, the individuals were transferred to Robert W. Neuman, Curator of Anthropology at Louisiana State University. In November 1978, Sharon Goad brought the individuals to UTK on Neuman's behalf and gave them to Charles Faulkner for William Bass to examine. Once Bass completed his assessment and sent a report to Neuman (January 1979), the individuals were retained by the UTK Forensic Anthropology Center (FAC) as case 1978/78AA. They remained in the FAC until they were transferred to the UTK Office of Repatriation. No associated funerary objects are present. While some of the human remains have been “repaired” using glue, no known hazardous substances were used to treat any of the remains.

Wilkinson County, MS is part of lands ceded to the United States by the Choctaw in the Treaty of Fort Adams in 1801.

Cultural Affiliation

Based on the information available and the results of consultation, cultural affiliation is reasonably identified by the geographical location or acquisition history of the human remains described in this notice.

Determinations

UTK has determined that:

• The human remains described in this notice represent the physical remains of six individuals of Native American ancestry.

• There is a reasonable connection between the human remains and associated funerary objects described in this notice and The Choctaw Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after June 24, 2024. If competing requests for repatriation are received, UTK must determine the most appropriate requestor prior to repatriation. Requests for joint repatriation of the human remains are considered a single request and not competing requests. UTK is responsible for sending a copy of this notice to the Indian Tribes and Native Hawaiian organizations identified in this notice.

Authority: Native American Graves Protection and Repatriation Act, 25 U.S.C. 3003, and the implementing regulations, 43 CFR 10.10.

Dated: May 15, 2024.
Melanie O'Brien,
Manager, National NAGPRA Program.

[FR Doc. 2024-11448 Filed 5-23-24; 8:45 am]

BILLING CODE 4312-52-P